SMALL BUSINESS ADMINISTRATION

[Disaster Declaration #13107 and #13108]

Florida Disaster Number FL-00072

AGENCY: U.S. Small Business Administration.

ACTION: Amendment 1.

SUMMARY: This is an amendment of the Presidential declaration of a major disaster for Public Assistance Only for the State of FLORIDA (FEMA-4068-DR), dated 07/09/2012.

Incident: Tropical Storm Debby.

Incident Period: 06/23/2012 and continuing.

Effective Date: 07/12/2012.

Physical Loan Application Deadline Date: 09/07/2012.

Economic Injury (EIDL) Loan Application Deadline Date: 04/09/2013.

ADDRESSES: Submit completed loan applications to: U.S. Small Business Administration, Processing and Disbursement Center, 14925 Kingsport Road, Fort Worth, TX 76155.

FOR FURTHER INFORMATION CONTACT: A Escobar, Office of Disaster Assistance, U.S. Small Business Administration, 409 3rd Street SW., Suite 6050, Washington, DC 20416.

SUPPLEMENTARY INFORMATION: The notice of the President's major disaster declaration for Private Non-Profit organizations in the State of Florida, dated 07/09/2012, is hereby amended to include the following areas as adversely affected by the disaster.

Primary Counties: Collier, Lee, Levy Madison, Putnam, Santa Rosa, Taylor, Bradford, Duval.

All other information in the original declaration remains unchanged.

(Catalog of Federal Domestic Assistance Numbers 59002 and 59008)

Roger B Garland,
Acting Associate Administrator for Disaster Assistance.

[FR Doc. 2012-17807 Filed 7-20-12; 8:45 am]

BILLING CODE 8025-01-P